Title 3—

The President

Proclamation 9593 of April 21, 2017

National Volunteer Week, 2017

By the President of the United States of America

A Proclamation

During National Volunteer Week, we celebrate the spirit of compassion and generosity that drives us to care for others, and we recognize America's volunteers. Our volunteers are often unsung and unseen, but they are heroes.

One of our Nation's greatest strengths has always been our citizens' unique commitment to improving the lives of others. The principles of charitable compassion and philanthropic collaboration were at the heart of our Founding Fathers' efforts to build a culture that serves the greater good. From our earliest days, Americans have answered the call to help those in need—at home and around the world. This service, fundamental to our Nation's character, is renewed each day by citizens who generously give their time and talents to help others.

Our Nation's commitment to civic engagement continues to thrive. American volunteers keep students on track for graduation, care for seniors and veterans, and rebuild communities after terrible storms. Beyond our borders, our volunteers often place their lives at risk as they help those affected by war, poverty, and disease.

According to the Bureau of Labor Statistics, more than 60 million Americans volunteered in 2015, giving an estimated $185 billion in service to their communities. The latest data shows that our Nation's seniors lead the way in time spent volunteering, and we are immensely thankful for their commitment. Our busy adults aged 35 to 54 volunteer at the highest rates, and our communities depend on their continued involvement. Our Nation continues to build a culture of service—the volunteer rate among our teenagers has steadily climbed over the past several years.

This week we pay tribute to the extraordinary faith-based, nonprofit, national service, service club, military service, and community organizations that provide volunteers with opportunities to serve. These organizations engage and connect Americans from every walk of life. Through the generosity of our citizens, we are reminded that each one of us has a role to play in improving our communities. During the recent International Week of Service, service organizations across the globe came together to assist others and make an impact. This effort is a shining example of how our Nation's generous volunteers continue to lead the world in helping those most in need.

NOW, THEREFORE, I, DONALD J. TRUMP, President of the United States of America, by virtue of the authority vested in me by the Constitution and the laws of the United States, do hereby proclaim April 23 through April 29, 2017, as National Volunteer Week. I call upon all Americans to observe this week by volunteering in service projects across our country and pledging to make service a part of their daily lives.

IN WITNESS WHEREOF, I have hereunto set my hand this twenty-first day of April, in the year of our Lord two thousand seventeen, and of the Independence of the United States of America the two hundred and forty-first.

[FR Doc. 2017-08723

Filed 4-26-17; 11:15 am]

Billing code 3295-F7-P